DEPARTMENT OF THE INTERIOR

Bureau of Land Management

[20X.LLAK980600.L18200000.LXSIARAC0000]

Notice of Public Meetings: Resource Advisory Council Alaska

AGENCY: Bureau of Land Management, Interior.

ACTION: Notice of public meetings.

SUMMARY: In accordance with the Federal Land Policy and Management Act and the Federal Advisory Committee Act of 1972, the U.S. Department of the Interior's Bureau of Land Management (BLM) Alaska Resource Advisory Council (RAC) will meet as indicated below.

DATES: The Alaska RAC will hold virtual meetings on Tuesday, February 8, 2022, and Tuesday, May 17, 2022. The meetings will be held from 9 a.m. to 5 p.m. and may end earlier or later depending on the needs of group members.

ADDRESSES: The meetings will be held online through the Zoom meeting application. The public can register, watch the meetings, and provide comments through the following links:

On February 8, 2022, https://blm.zoomgov.com/meeting/register/vJItcu6rrj4iH9m_4eVrtX89DywKTV3o2Lo.

On May 17, 2022, https://blm.zoomgov.com/meeting/register/vJIsduirrDkiG3pfi4ZNwpaxFxC0I_OsZbo.

Written comments can be mailed to: BLM Alaska State Office, Office of Communications, Attn: RAC Coordinator Melinda Bolton; 222 W 7th Avenue #13, Anchorage, AK 99513. Comments can also be submitted by email to mbolton@blm.gov with the subject line: BLM AK RAC.

Meeting links, guidance for attendees, and the final agendas will be available 2 weeks in advance of each meeting on the BLM Alaska RAC web page at https://www.blm.gov/get-involved/resource-advisory-council/near-you/alaska/rac and linked on BLM Alaska news releases and social media posts.

FOR FURTHER INFORMATION CONTACT: Melinda Bolton, RAC Coordinator, by telephone at (907) 271-3342, or by email at mbolton@blm.gov. Persons who use a telecommunications device for the deaf (TDD) may call the Federal Relay Service (FRS) at (800) 877-8339 to contact Ms. Bolton during normal business hours. The FRS is available 24 hours a day, 7 days a week, to leave a message or question. You will receive a reply during normal business hours.

SUPPLEMENTARY INFORMATION: The 15-member Alaska RAC serves in an advisory capacity concerning issues relating to land use planning and the management of the public land resources located within the State of Alaska. Meetings are open to the public in their entirety and public comment periods will be held near the end of the day for each meeting. Both the February and May meeting agendas include discussions on lands and cadastral survey, land use planning projects, and recreation; Federal Subsistence Board activity updates; and potential for recommendations to the State Director or his designee.

Interested persons may make verbal presentations to the RAC during the meetings or file written statements. Such requests should be made to RAC Coordinator Melinda Bolton prior to the public comment period. Depending on the number of people who wish to speak, the time for individual comments may be limited. Individuals who need further information about the meetings, or special assistance such as sign language interpretation or other reasonable accommodations, may contact Melinda Bolton (see FOR FURTHER INFORMATION CONTACT).

Before including your address, phone number, email address, or other personal identifying information in your comments, please be aware that your entire comment, including your personal identifying information, may be made publicly available at any time. While you can ask us in your comment to withhold your personal identifying information from public review, we cannot guarantee that we will be able to do so.

(Authority: 43 CFR 1784.4-2)

Thomas A. Heinlein,
Acting State Director.

[FR Doc. 2021-27652 Filed 12-21-21; 8:45 am]

BILLING CODE 4310-JA-P